DEPARTMENT OF DEFENSE

Office of the Secretary

[Docket ID DoD-2021-OS-0094]

Proposed Collection; Comment Request

AGENCY: Office of the Under Secretary of Defense for Personnel and Readiness, Department of Defense (DoD).

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 29, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Office of the Under Secretary of Defense (Personnel and Readiness—Military Personnel Policy/Accession Policy), ATTN: Evelyn Dyer, 4000 Defense Pentagon, Washington, DC 20301-4000, or call 703-697-9272.

SUPPLEMENTARY INFORMATION: Title; Associated Form; and OMB Number: DOD Educational Loan Repayment Program (LRP) Application; DD Form 2475; OMB Control Number 0704-0152.

Needs and Uses: The information collection requirement is necessary for Military Services to pay a portion of Service member student loan(s). The information provided is reviewed by Military Service personnel record custodians to verify that the Service member meets eligibility requirements. This form will then be forwarded to the lender the Service member identifies for verification of the loan amount and status. The form is returned to the Service finance office to make the annual payment to the Service member's lender. Collected information is covered by the Applicable Military Service System of Records Notice (SORN) for the Official Military Personnel File of Military Records Jacket.

Affected Public: Individuals or households.

Annual Burden Hours: 7,333 hours.

Number of Respondents: 44,000.

Responses per Respondent: 1.

Annual Responses: 44,000.

Average Burden per Response: 10 minutes.

Frequency: On occasion.

Dated: August 24, 2021.
Kayyonne T. Marston,
Alternate OSD Federal Register, Liaison Officer, Department of Defense.

[FR Doc. 2021-18558 Filed 8-27-21; 8:45 am]

BILLING CODE 5001-06-P